DEPARTMENT OF COMMERCE

National Oceanic and Atmospheric Administration

[I.D. 082003B]

Proposed Information Collection; Comment Request; Electronic Chart System and Electronic Chart Display and Information System User Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 27, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to CDR Timothy D. Tisch, NOAA, U.S. Department of Commerce, NOAA, National Ocean Service, Office of Coast Survey, N/CS, U.S. Merchant Marine Academy, 300 Steamboat Road, Bowditch Hall, Kings Point, NY 11024 (phone: 516- 773-5221).

SUPPLEMENTARY INFORMATION:

I. Abstract

Electronic Chart Systems (ECS) and Electronic Chart Display and Information Systems (ECDIS) are extremely complex navigation systems which gives the operator broad discretion over display setup. As with any complex system they are particularly vulnerable to human factor errors. It is extremely important to examine and re-evaluate knowledge and skill sets that a mariner will need to have to use these revolutionary pieces of navigation equipment to their maximum benefit and maximum safety. Users of ECS and ECDIS would be surveyed for the purpose of determining the current state of ECDIS/ECS usage by the mariner and identifying technical problems, best practices, personal preferences, near misses, reasons for mariners preferences on equipment setup, and skill sets and knowledge that mariners feel are important to the safe efficient use of this equipment.

Ongoing research at the United States Merchant Marine Academy proposes to use an existing full mission bridge simulator to identify human factor errors associated with ECS and ECDIS by the observation of casualties in a virtual environment. The intent is to use this information and research to help develop training and educational aids which proactively work to reduce the likelihood of human factors errors with ECS and ECDIS.

II. Method of Collection

Survey questionnaires mailed to users of ECS and ECDIS equipment will collect data on vessel and equipment type, wheelhouse ergonomics, electronic charts in use, equipment usage, navigation, and operator backgrounds.

III. Data

OMB Number: None.

Form Number: None.

Type of Review: Regular submission.

Affected Public: Individuals or households, business or other for-profit organizations, and Federal Government.

Estimated Number of Respondents: 1000.

Estimated Time Per Response: 40 minutes.

Estimated Total Annual Burden Hours: 667.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 19, 2003.
Gwellnar Banks,
Management Analyst, Office of the Chief Information Officer.

[FR Doc. 03-21724 Filed 8-25-03; 8:45 am]

BILLING CODE 3510-KE-S